DEPARTMENT OF TRANSPORTATION

National Highway Traffic Safety Administration

[Docket No. NHTSA-2007-28735; Notice 1]

Mazda North American Operations, Receipt of Petition for Decision of Inconsequential Noncompliance

Mazda North American Operations (Mazda) has determined that certain motor vehicle replacement equipment that it delivered prior to June 25, 2007 did not comply with paragraphs S4.1(k) and S4.1(l) of 49 CFR 571.209, Federal Motor Vehicle Safety Standard (FMVSS) No. 209, Seat Belt Assemblies. MAZDA has filed an appropriate report pursuant to 49 CFR part 573, Defect and Noncompliance Responsibility and Reports.

Pursuant to 49 U.S.C. 30118(d) and 30120(h), MAZDA has petitioned for an exemption from the notification and remedy requirements of 49 U.S.C. Chapter 301 on the basis that this noncompliance is inconsequential to motor vehicle safety.

This notice of receipt of MAZDA's petition is published under 49 U.S.C. 30118 and 30120 and does not represent any agency decision or other exercise of judgment concerning the merits of the petition.

Affected are an unspecified quantity of seat belt replacement assemblies delivered prior to June 25, 2007. Paragraphs S4.1(k) and S4.1(l) of FMVSS No. 209 require:

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c, “Motor Vehicle Seat Belt Installations,” November 1973. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance of the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

MAZDA explains that three possible situations apply to the subject seat belt replacement assemblies.

In the first instance, the seat belt assembly instruction sheets included with the replacement assemblies appropriate for Mazda B-series pickup trucks and Mazda Navajo multipurpose passenger vehicles only identified the assemblies as applicable to the Ford Ranger pickup trucks or Ford Explorer multipurpose passenger vehicles, respectively. Although other information provided was accurate for the Mazda vehicles, the incorrect vehicle reference fails to comply with S4.1(k) of the standard.

Second, replacement seat belt assemblies produced for use in the following vehicles did not include either the installation instructions or the instructions for the proper use and maintenance of the replacement seat belt assemblies. This fails to comply with both paragraph S4.1(k) and paragraph S4.1(l) of the standard:

1992-1995 MY Mazda 929, delivered from 1991 to 2007

1990-2002 MY Mazda 626, delivered from 1989 to 2007

1994-1995 MY Mazda MX-3, delivered from 1993 to 2007

1994-2007 MY Mazda MX-5, delivered from 1993 to 2007

1988-1997 MY Mazda MX-6, delivered from 1987 to 2007

1993-1995 MY Mazda RX-7, delivered from 1992 to 2007

1999-2003 MY Mazda Protege, delivered from 1998 to 2007

2001-2008 MY Mazda Tribute, delivered from 2000 to 2007

2004-2007 MY Mazda Mazda6, delivered from 2003 to 2007

2006-2007 MY Mazda 5, delivered from 2005 to 2007

2007 MY Mazda CX-9, delivered from 2006 to 2007

2007 MY Mazda B-Series Truck, delivered from 2006 to 2007

And finally, all remaining replacement seat belt assemblies produced for use in the United States and its territories did not include the instructions for the proper use and maintenance of the replacement seat belt assemblies. This fails to comply with S4.1(l) of the standard.

MAZDA makes the argument that the MAZDA parts ordering system used by Mazda dealers clearly identifies the correct service seat belt components for any given model/model year seat position combination. The parts are unique to each belt and are designed to assemble properly only in their intended application. When ordering Mazda replacement seat belt parts, the dealer must refer to the Mazda parts catalog to identify the ordering part number with the information on the specific vehicle model type, location and model year. Each replacement seat belt assembly is packaged individually with a specific part number label to ensure shipping the correct parts. Then, the dealer routinely checks to confirm that the part received matches the one ordered. Given the ordering system and process, the dealers could select, order, and obtain the correct parts. Also, installation instructions for seat belts are readily available in the Mazda workshop manuals and on the Internet. Therefore, the seat belt parts can be successfully installed with the information already available even though installation instructions did not accompany the replacement seat belt assemblies.

MAZDA further argues that since the instruction for proper use and maintenance is described in the owner's manual which is installed in the vehicle, incorrect usage and maintenance by the vehicle owner is highly unlikely.

MAZDA is not aware of any customer or field reports of service seat belt assemblies being incorrectly installed in the subject applications as a result of installation instructions not accompanying the service part.

MAZDA also stated that it is not aware of any reports requesting installation instructions, which it believed to be related to the noncompliances.

Upon discovery of the subject noncompliance, MAZDA took action to ensure that all replacement seat belt assemblies shipped in the future are packaged with the required installation instructions. MAZDA has also corrected all the replacement seat belt assemblies in the inventory for shipment to dealers.

In summation, MAZDA states that it has corrected the problem that caused these errors so that they will not be repeated in future production and that it believes that because the noncompliances are inconsequential to motor vehicle safety that no corrective action is warranted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: until September 29, 2007, by logging onto the DOT Docket Management System Web site at http://dms.dot.gov; after September 28, 2007, by logging onto the Federal Docket Management System Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 5, 2007.

Authority: 49 U.S.C. 30118, 30120: Delegations of authority at CFR 1.50 and 501.8.

Issued on: September 27, 2007.
Harry Thompson,
Acting Director, Office of Vehicle Safety Compliance.

[FR Doc. E7-19604 Filed 10-3-07; 8:45 am]

BILLING CODE 4910-59-P